DEPARTMENT OF ENERGY

Federal Energy Regulatory Commission

[Docket No. CP19-474-000]

Notice of Schedule for Environmental Review of the Florida Gas Transmission Company, LLC Putnam Expansion Project

On May 31, 2019, Florida Gas Transmission Company, LLC (FGT) filed an application in Docket No. CP19-474-000 requesting a Certificate of Public Convenience and Necessity pursuant to Section 7(c) of the Natural Gas Act to construct and operate certain natural gas pipeline facilities. The proposed project is known as the Putnam Expansion Project (Project), and would allow FGT to provide additional firm transportation up to 169,000 million British thermal units (MMBtu/d) of natural gas.

On June 12, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 8, 2019

90-day Federal Authorization Decision Deadline—February 6, 2020

If a schedule change becomes necessary, additional notice will be provided so that the relevant agencies are kept informed of the Project's progress.

Project Description

The Putnam Expansion Project would consist of the following facilities: (i) Approximately 13.7 miles of 30-inch-diameter pipeline loop ¹ extension and auxiliary facilities in Columbia and Union Counties, Florida; (ii) approximately 7 miles of 30-inch-diameter pipeline loop extension and auxiliary facilities in Clay and Putnam Counties, Florida; (iii) minor modifications to Compressor Station 18 in Orange County, Florida; and (iv) a relocation of existing pig ² receivers in Clay, Putnam, and Union Counties, Florida.

¹ A pipeline loop is a segment of pipe constructed parallel to an existing pipeline to increase capacity.

² A “pig” is a tool that the pipeline company inserts into and pushes through the pipeline for cleaning the pipeline, conducting internal inspections, or other purposes.

Background

On July 16, 2019, the Commission issued a Notice of Intent to Prepare an Environmental Assessment for the Proposed Putnam Expansion Project and Request for Comments on Environmental Issues (NOI). The NOI was sent to affected landowners; federal, state, and local government agencies; elected officials; environmental and public interest groups; Native American tribes; other interested parties; and local libraries and newspapers. In response to the NOI, the Commission received a request from the Seminole Tribe of Florida for formal tribal consultation, and a comment from Judith Rhame stating interest in property sales. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-474), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 14, 2019.
Kimberly D. Bose,
Secretary.

[FR Doc. 2019-17896 Filed 8-19-19; 8:45 am]

BILLING CODE 6717-01-P